DEPARTMENT OF ENERGY

Agency Information Collection Extension

AGENCY: Department of Energy.

ACTION: Submission for Office of Management and Budget (OMB) review: Comment request.

SUMMARY: The Department of Energy (DOE) has submitted an information collection request to the OMB for extension under the provisions of the Paperwork Reduction Act of 1995. The information collection requests a three-year extension of the DOE Loan Guarantees for Energy Projects, OMB Control Number 1910-5134.

DATES: Comments regarding this collection must be received on or before April 25, 2022. If you anticipate that you will be submitting comments, but find it difficult to do so within the period of time allowed by this notice, please advise the OMB Desk Officer of your intention to make a submission as soon as possible. The Desk Officer may be telephoned at (202) 881-8585.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection instrument and instructions should be directed to Knight Elsberry, LPO.PaperworkReductionAct.Comments@hq.doe.gov, (202) 287-6646. The collection instruments can be viewed at: https://www.energy.gov/lpo/title-17-governing-documents (Title XVII solicitations); and https://www.energy.gov/sites/default/files/2020/01/f70/DOE-LPO_TELGP_Solicitation_16Jan20.pdf (TELGP solicitations).

SUPPLEMENTARY INFORMATION: This information collection request contains: (1) OMB No.: 1910-5134; (2) Information Collection Request Title: DOE Loan Guarantees for Energy Projects; (3) Type of Request: Extension; (4) Purpose: This information collection package covers collection of information necessary to evaluate applications for loan guarantees submitted under Title XVII of the Energy Policy Act of 2005, as amended, 16516 (Title XVII), 42 U.S.C. 16511, and under Section 2602(c) of the Energy Policy Act of 1992, as amended (TELGP), 25 U.S.C. 3502(c). Applications for loan guarantees submitted to DOE in response to a solicitation under Title XVII or TELGP must contain certain information. This information will be used to analyze whether a project is eligible for a loan guarantee and to evaluate the application under criteria specified in the final regulations implementing Title XVII, located at 10 CFR part 609, and adopted by DOE for purposes of TELGP, with certain immaterial modifications and omissions. The collection of this information is critical to ensure that the government has sufficient information to determine whether applicants meet the eligibility requirements to qualify for a DOE loan guarantee under Title XVII or TELGP, as the case may be, and to provide DOE with sufficient information to evaluate an applicant's project using the criteria specified in 10 CFR part 609 (for Title XVII applications) or the applicable solicitation (for TELGP applications); (5) Annual Estimated Number of Respondents: 92; (6) Annual Estimated Number of Total Responses: 92; (7) Annual Estimated Number of Burden Hours: 12,190; (8) Annual Estimated Reporting and Recordkeeping Cost Burden: $2,490,900.

Statutory Authority: Title XVII and TELGP authorize the collection of information.

Signing Authority

This document of the Department of Energy was signed on March 21, 2022, by Jigar Shah, Executive Director, Loan Programs Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on March 22, 2022.
Treena V. Garrett,
Federal Register Liaison Officer, U.S. Department of Energy.

[FR Doc. 2022-06307 Filed 3-24-22; 8:45 am]

BILLING CODE 6450-01-P